SOCIAL SECURITY ADMINISTRATION

[Docket No. SSA-2012-0048]

Service Delivery Plan

AGENCY: Social Security Administration (SSA).

ACTION: Notice; request for comments.

SUMMARY: We are requesting public input as we finalize our Service Delivery Plan (SDP). We designed our SDP as a roadmap for how we will serve the public over the next decade. The SDP explains how we will build on our achievements, accommodate our resource constraints, and achieve the goals and objectives laid out in our Agency Strategic Plan.

DATES: To ensure that we consider your comments, we must receive them no later than April 11, 2013.

ADDRESSES: You may submit comments by one of three methods—Internet, fax, or mail. Do not submit the same comments multiple times or by more than one method. Regardless of which method you choose, please state that your comments refer to Docket No. SSA-2012-0048 so that we associate your comments with the correct document.

Caution: You should be careful to include in your comments only information that you wish to make publicly available. Do not include in your comments any personal information, such as Social Security numbers or medical information.

1. Internet: We strongly recommend that you submit your comments via the Internet. Please visit the Federal eRulemaking portal at http://www.regulations.gov. Use the Search function of the Web page to find docket number SSA-2012-0048. The system will issue you a tracking number to confirm your submission. It may take up to one week for your comment to be viewable.

2. Fax: Fax comments to (410) 966-2830.

3. Mail: Mail your comments to the Office of Regulations and Reports Clearance, Social Security Administration, 107 Altmeyer Building, 6401 Security Boulevard, Baltimore, Maryland 21235-6401.

Comments are available for public viewing on the Federal eRulemaking portal at http://www.regulations.gov or in person, during regular business hours, by arranging with the contact person identified below.

FOR FURTHER INFORMATION CONTACT: Karl W. Tomak, Social Security Administration, 900 Altmeyer Building, 6401 Security Boulevard, Baltimore, MD 21235-6401, (410) 965-3192. For information about our programs or about eligibility or filing for benefits, please visit our Internet site, Social Security Online at http://www.socialsecurity.gov, or call our national toll-free number, 1-800-772-1213 or TTY 1-800-325-0778.

SUPPLEMENTARY INFORMATION: Social Security's programs affect nearly every American and contribute significantly to the Nation's economy. Today, the challenge of service delivery is greater than at any other point in our history. Over the past few years, requests for our core services have risen dramatically as the population grew and baby boomers aged, passing through their most disability-prone years before retiring. In addition, we also have experienced huge increases in our workloads due to the economic downturn. These unprecedented workloads, combined with budget constraints, have placed serious strains on our service delivery. This means that we must work smarter to maintain the productivity gains of the past several years.

We intend to rely on technology-driven innovation, coupled with ongoing policy updates and streamlined business processes, to continue to transform our agency. We designed our SDP as part of our roadmap for continuing to provide excellent public service over the next decade, despite the challenges we expect to face.

When we initially developed the SDP, we sought suggestions from the public as to how we can continue to provide the best possible service. (77 FR 44306 (2012)). We have incorporated those suggestions into this version of the document. We invite you to review the document and send us any additional comments you have. Please see the information under ADDRESSES earlier in the document for methods to provide us your comments. We will not respond to your comments, but will consider them as we finalize our SDP.

Dated: March 5, 2013.
Karena L. Kilgore,
Executive Secretary.

[FR Doc. 2013-05595 Filed 3-11-13; 8:45 am]

BILLING CODE 4191-02-P